DEPARTMENT OF COMMERCE

International Trade Administration

[A-533-809]

Certain Forged Stainless Steel Flanges From India: Notice of Rescission of New Shipper Review

AGENCY: Import Administration, International Trade Administration, Department of Commerce.

ACTION: Notice of rescission of new shipper review.

EFFECTIVE DATE: April 25, 2001.

SUMMARY: The Department of Commerce (the Department) is rescinding the new shipper review of certain forged stainless steel flanges from India manufactured or exported by Snowdrop Trading Pvt. Ltd. (Snowdrop) because record evidence does not indicate that Snowdrop had any U.S. sales suitable for use in a dumping analysis during the period of review, i.e., February 1, 1999 through February 29, 2000.

FOR FURTHER INFORMATION CONTACT: Thomas Killiam or Robert James, Import Administration, International Trade Administration, U.S. Department of Commerce, 14th Street and Constitution Avenue, NW., Washington, DC 20230; telephone: (202) 482-5222 and (202) 482-0649, respectively.

Applicable Statute and Regulations

Unless otherwise indicated, all citations to the Tariff Act of 1930, as amended (the Tariff Act), are references to the provisions effective January 1, 1995, the effective date of the amendments made to the Tariff Act by the Uruguay Round Agreements Act. In addition, all references to the Department's regulations are to 19 CFR part 351 (April 2000).

SUPPLEMENTARY INFORMATION:

Background

On April 3, 2000, in response to a request from Snowdrop, the Department published a Notice of Initiation of New Shipper Review (65 FR 17485). This review covered sales or entries of stainless steel flanges exported by Snowdrop during the period February 1, 1999 through February 29, 2000. On January 31, 2001, the Department published in the Federal Register its Notice of Preliminary Results of New Shipper Review: Certain Forged Stainless Steel Flanges from India (66 FR 8380).

In its original and supplemental questionnaire responses, Snowdrop indicated that it had a single U.S. sale during the period of review to Texas Metal Works (Texas Metal), a firm in Houston, Texas. Snowdrop also indicated that it did not sell the foreign like product in the home market and, therefore, indicated that sales to Canada should be used as the only viable third-country comparison market. All sales to Canada were to a single firm, Provincial Flange & Fittings, Ltd., of Ontario (Provincial). However, documentation developed in a series of supplemental questionnaires, as well as the Department's November 2000 verification, demonstrates that Snowdrop's alleged “sale” to Texas Metal Works actually involved a transaction between Snowdrop and its third-country customer, Provincial. See, e.g., the Department's January 19, 2001 verification report, on file in room B-099 of the main Commerce Building. Thus, Snowdrop is proposing that we base both normal value and U.S. price on sales to a single entity, Provincial.

We find it inappropriate to base U.S. price on a sale to the same entity that is also functioning as the sole comparison market customer. Any analysis of dumping attempts to measure the extent of price discrimination, if any, between the U.S. market and an appropriate, viable comparison market. Here, the two markets are one and the same: to wit, sales to Provincial in Canada. Therefore, because no credible measure of dumping is possible under these circumstances, we are rescinding this new shipper administrative review. See Memorandum to Joseph A. Spetrini, “Rescission of New Shipper Review of Snowdrop Trading Pvt., Ltd.,” dated April 18, 2001.

Rescission of Review

The record evidence does not indicate that Snowdrop made a sale to the United States during the period of review which can serve as the basis for any dumping analysis. In the absence of such a sale, the Department has no grounds for proceeding with this review. Accordingly, the Department is rescinding this new shipper review, in accordance with section 351.214(f) of the Department's regulations.

This notice is published in accordance with section 777(i)(1) of the Tariff Act.

Joseph A. Spetrini,
Deputy Assistant Secretary for AD/CVD Enforcement Group III.

[FR Doc. 01-10279 Filed 4-24-01; 8:45 am]

BILLING CODE 3510-DS-P